DEPARTMENT OF HOMELAND SECURITY

Coast Guard

33 CFR Part 165

[Docket No. USCG-2024-0548]

Safety Zone; Providence Fireworks, Providence, RI

AGENCY: Coast Guard, DHS.

ACTION: Notification of enforcement of regulation.

SUMMARY: The Coast Guard will enforce the safety zone for the Providence Fireworks on July 2, 2024, to provide the safety of life on navigable waterways during this fireworks display. Our regulation for marine events within the First Coast Guard District identifies the regulated area for this event in Providence, RI. During the enforcement periods, the operator of any vessel in the regulated area must comply with directions from the Patrol Commander or any Official Patrol displaying a Coast Guard ensign.

DATES: The regulations for the event 1.2 Providence Fireworks listed in Table to 33 CFR 165.173 will be enforced from 8:30 p.m. until 10 p.m. on July 2, 2024, or those same hours on July 3, 2024, in the case of inclement weather on July 2, 2024.

FOR FURTHER INFORMATION CONTACT: If you have questions about this notification of enforcement, call or email MST2 Christopher Matthews, Waterways Management Division, Sector Southeastern New England, U.S. Coast Guard; telephone 571-610-4969, email SENEWWM@uscg.mil.

SUPPLEMENTARY INFORMATION: The Coast Guard will enforce the safety zone for the Providence Fireworks regulated area in 33 CFR 165.173 from 8:30 p.m. to 10 p.m. on July 2, 2024, or those same hours on July 3, 2024, in the case of inclement weather on July 2, 2024. This action is being taken to provide for the safety of life on navigable waterways during this 1-day event. Our regulation for marine events within the First Coast Guard District, § 165.173, which specifies the location of the regulated area for the Providence Fireworks which encompasses portions of the Providence River. During the enforcement periods, as reflected in § 165.173, if you are the operator of a vessel in the regulated area you must comply with directions from the Patrol Commander or any Official Patrol displaying a Coast Guard ensign.

In addition to this notification of enforcement in the Federal Register, the Coast Guard plans to provide notification of this enforcement period via the Local Notice to Mariners and marine information broadcasts.

C. Prindle,
Captain, U.S. Coast Guard, Captain of the Port Sector Southeastern New England.

[FR Doc. 2024-14373 Filed 6-28-24; 8:45 am]

BILLING CODE 9110-04-P